DEPARTMENT OF ENERGY

Federal Energy Regulatory Commission

[Docket Nos. EY04-95-20-000, RM01-10-000 and and PL05-14-000]

Standards of Conduct for Transmission Providers Extension of Non-Statutory Deadlines; Notice Granting Extension of Time To Comply With Posting and Other Requirements

September 23, 2005.

In anticipation of Hurricane Rita creating emergency conditions in Texas and Louisiana, the Commission is granting the following extensions of time and waivers. Section 358.4(a)(2) of the Commission's Standards of Conduct regulations allows transmission providers to “take whatever steps are necessary to keep the system[s] in operation” notwithstanding any of the other requirements. 18 CFR 358.4(a)(2) (2005). Section 358.4(a)(2) also provides: “Transmission Providers must report to the Commission and post on the OASIS or Internet Web site, as applicable, each emergency that resulted in any deviation from the standards of conduct, within 24 hours of such deviation.” As a result of the emergency, the Commission will allow affected transmission providers in the geographic area affected by Hurricane Rita to delay compliance with the section 358.4(a)(2) reporting requirement until October 7, 2005.

The Commission will also waive, until October 7, 2005, the requirement to record and retain a record of each deviation of the Standards of Conduct.

In addition, pursuant to section 385.2008 of the Commission's Rules of Practice and Procedure, 18 CFR 385.2008 (2005), the Commission finds good cause to extend, until October 7, 2005, non-statutory deadlines that occur before that date for participants in proceedings pending before the Commission who are in the geographic area affected by Hurricane Rita and need such extensions on account of the Hurricane.

The Commission will consider extending the October 7, 2005 date if an extension is necessary.

Magalie R. Salas,
Secretary.

[FR Doc. E5-5386 Filed 9-30-05; 8:45 am]

BILLING CODE 6717-01-P